DEPARTMENT OF COMMERCE

Census Bureau

2030 Census Advisory Committee

AGENCY: Census Bureau, Department of Commerce.

ACTION: Notice of public meeting.

SUMMARY: The Census Bureau is giving notice of a meeting of the 2030 Census Advisory Committee (2030 CAC or Committee). The Committee will assist the Census Bureau in devising strategies to increase awareness of and participation in the next decennial census, reduce barriers to response, and enhance the public's trust and willingness to respond. Last minute changes to the schedule are possible, which could prevent giving advance public notice of schedule adjustments.

DATES: The meeting will be held on:

• Thursday, October 17, 2024, from 8:30 a.m. to 5 p.m. EDT; and

• Friday, October 18, 2024, from 8:30 a.m. to 2:30 p.m. EDT.

ADDRESSES: Please visit the Census Advisory Committee website at https://www.census.gov/about/cac/2030cac/meetings/2024-10-meeting.html, for the 2030 CAC fall meeting information, including the agenda, and how to attend the meeting.

FOR FURTHER INFORMATION CONTACT: Shana Banks, Advisory Committee Branch Chief, Office of Program, Performance and Stakeholder Integration (PPSI), shana.j.banks@census.gov, Department of Commerce, Census Bureau, telephone 301-763-3815. For TTY callers, please use the Federal Relay Service at 1-800-877-8339.

SUPPLEMENTARY INFORMATION: The Committee will provide insight, perspectives, and expertise through recommendations on planning and implementation of the 2030 Census. The members of the 2030 CAC are appointed by the Director of the Census Bureau. The Committee has been established in accordance with the Federal Advisory Committee Act (5 U.S.C. 1001 et seq.).

All meetings are open to the public. Public comments will be accepted in writing only to shana.j.banks@census.gov (subject line “2030 CAC Fall Meeting Public Comment”). A brief period will be set aside during the meeting to read public comments received in advance of 12 p.m. EDT, October 17, 2024. Any public comments received after the deadline will be posted to the website listed in the ADDRESSES section.

Robert L. Santos, Director, Census Bureau, approved the publication of this Notice in the Federal Register.

Dated: September 16, 2024.
Shannon Wink,
Program Analyst, Policy Coordination Office, U.S. Census Bureau.

[FR Doc. 2024-21489 Filed 9-19-24; 8:45 am]

BILLING CODE 3510-07-P